FEDERAL MARITIME COMMISSION

Ocean Transportation Intermediary License Reissuances

Notice is hereby given that the following Ocean Transportation Intermediary licenses have been reissued by the Federal Maritime Commission pursuant to section 40901 of the Shipping Act of 1984 (46 U.S.C. 40101).

License No. | Name/address | Date reissued
003918F | Benison International Transportation, Inc., 9740 Jordon Circle, Suite #A, Santa Fe Springs, CA 90670 | June 5, 2012.
015101N | Northstar Shipping & Trading, Inc., 2855 Mangum Road, Suite 535, Houston, TX 77092 | May 23, 2012.

Vern W. Hill,
Director, Bureau of Certification and Licensing.

[FR Doc. 2012-17475 Filed 7-17-12; 8:45 am]

BILLING CODE 6730-01-P